DEPARTMENT OF HEALTH AND HUMAN SERVICES

Health Resources and Services Administration

Agency Information Collection Activities: Proposed Collection: Comment Request

In compliance with the requirement for opportunity for public comment on proposed data collection projects (section 3506(c)(2)(A) of Title 44, United States Code, as amended by the Paperwork Reduction Act of 1995, Public Law 104-13), the Health Resources and Services Administration (HRSA) publishes periodic summaries of proposed projects being developed for submission to the Office of Management and Budget (OMB) under the Paperwork Reduction Act of 1995. To request more information on the proposed project or to obtain a copy of the data collection plans and draft instruments, e-mail paperwork@hrsa.gov or call the HRSA Reports Clearance Officer on (301) 443-1129.

Comments are invited on: (a) The proposed collection of information for the proper performance of the functions of the agency; (b) the accuracy of the agency's estimate of the burden of the proposed collection of information; (c) ways to enhance the quality, utility, and clarity of the information to be collected; and (d) ways to minimize the burden of the collection of information on respondents, including through the use of automated collection techniques or other forms of information technology.

Proposed Project Title: Combating Autism Act Initiative Evaluation (New)

Background: In response to the growing need for research and resources devoted to autism spectrum disorder (ASD) and other developmental disorders (DD), the U.S. Congress passed the Combating Autism Act (CAA) in 2006. This Act authorized federal programs to combat ASD and other DD through research, screening, intervention, and education. Through the CAA, the Health Resources and Services Administration (HRSA) is tasked with increasing awareness of ASD and other DD, reducing barriers to screening and diagnosis, promoting evidence-based interventions, and training health care professionals in the use of valid and reliable screening and diagnostic tools.

Purpose: HRSA's activities under this legislation are conducted by the Maternal and Child Health Bureau (MCHB), which is implementing the Combating Autism Act Initiative (CAAI) in response to the legislative mandate. The purpose of this evaluation is to design and implement a three-year evaluation to assess the effectiveness of MCHB's activities in meeting the goals and objectives of the CAAI, and to provide sufficient data to inform MCHB and the Congress as to the utility of the grant programs funded under the Initiative. To address the requirements for the Report to Congress, the evaluation will focus on short-term indicators related to: (1) Increasing awareness of ASD and other DD among health care providers, other MCH professionals and the general public; (2) reducing barriers to screening and diagnosis; (3) supporting research on evidence-based interventions; (4) promoting the development of evidence-based guidelines and tested/validated intervention tools; and (5) training professionals.

Respondents: Grantees funded by HRSA under the CAAI will be the respondents for this data collection activity. The programs to be evaluated are listed below.

1. Training Programs

• Leadership Education in Neurodevelopmental Disabilities (LEND) training programs with thirty nine grantees.

• Developmental Behavioral Pediatrics (DBP) training programs with six grantees; and

• A National Combating Autism Interdisciplinary Training Resource Center grantee.

2. Research Programs

• Two Autism Intervention Research Networks that focus on intervention research, guideline development, and information dissemination;

• Five R40 Maternal and Child Health (MCH) Autism Intervention Research Program grantees that support research on evidence-based practices for interventions to improve the health and well-being of children and adolescents with ASD and other DD; and

• Two R40 MCH Autism Intervention Secondary Data Analysis Study (SDAS) Program grantees that support research on evidence-based practices for interventions to improve the health and well-being of children and adolescents with ASD and other DD, utilizing exclusively the analysis of existing secondary data.

3. State Implementation Program Grants for Improving Services for Children and Youth With Autism Spectrum Disorder (ASD) and Other Developmental Disabilities (DD)

• Nine grantees will implement state autism plans and develop models for improving the system of care for children and youth with ASD and other DD and

• A State Public Health Coordinating Center grantee.

The data gathered through this evaluation will be used to:

• Evaluate the grantees' performance in achieving the objectives of the CAAI during the three year grant period;

• Assess the short- and intermediate-term impacts of the grant programs on children and families affected by ASD and other DD;

• Measure the CAAI outputs and outcomes for the Report to Congress; and

• Provide foundation data for future measurement of the initiative's long-term impact.

Table 1—Estimated Hour and Cost Burden of the Data Collection
Grant program | No. of respondents | Responses per respondent | Total responses | Average hours per response | Total hour burden | Wage rate | Total hour cost
LEND | 39 | 6 | 234 | .75 | 175.5 | $39.36 | $6,907.68
DBP | 6 | 6 | 36 | .75 | 27 | 39.36 | 1,062.72
State Implementation Program | 9 | 6 | 54 | .75 | 40.5 | 38.22 | 1,547.91
Research Program | 9 | 6 | 54 | .75 | 40.5 | 39.36 | 1,594.08
Total | 63 |  | 378 |  | 283.5 |  | 11,112.39

The estimated response burden is shown in Table 1.

E-mail comments to paperwork@hrsa.gov or mail the HRSA Reports Clearance Officer, Room 10-33, Parklawn Building, 5600 Fishers Lane, Rockville, MD 20857. Written comments should be received within 60 days of this notice.

Dated: October 22, 2009.
Alexandra Huttinger,
Director, Division of Policy Review and Coordination.

[FR Doc. E9-26394 Filed 11-2-09; 8:45 am]

BILLING CODE 4165-15-P